DEPARTMENT OF DEFENSE

Department of the Air Force

[Docket ID: USAF-2013-0018]

Proposed Collection; Comment Request

AGENCY: Department of Defense/Department of the Air Force/Headquarters, Air Force Safety Center (AFSEC), DoD.

ACTION: Notice.

In compliance with Section 3506(c)(2)(A) of the Paperwork Reduction Act of 1995, the Department of the Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 16, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: Air Force Safety Automated System Administrator, HQ AFSEC/SEAC, 9700 G Ave SE., Kirtland Air Force Base, NM 87117-5670.

Title; and OMB Number: Air Force Safety Automated System (AFSAS), OMB Control Number 0701-TBD.

Needs and Uses: Information collected in the AFSAS includes individuals determined to be a factor in an Air Force (AF) or Department of Defense (DoD) mishap. The system meets DoD Instruction 6055.1 series reporting requirements governing aviation, space, weapons, and ground safety. Data collection includes personnel who are involved in a DoD related mishap, or experience an injury, illness or exposure while on a military installation or other areas under military control. It also includes personnel who operate a motorcycle on or off duty and personnel who operate a motorcycle on or off a DoD installation when in a duty status on official business. Data are used for analysis of safety risk and for prevention of mishaps.

Affected Public: Individuals or households.

Annual Burden Hours: 200.

Number of Respondents: 200.

Responses per Respondent: 1.

Average Burden per Response: 1 hour.

Frequency: On occasion.

SUPPLEMENTARY INFORMATION:

Summary of Information Collection

In the case of members of the public, this system collects information from DoD contractors or foreign military determined to be a factor in an DoD or AF mishap. To accurately investigate the mishap, the following categories of data collected can include personal data, mishap data, occupational illness data, training data, hazard identification data, injury data, exposure data, facility inspection data, assessment/evaluation data, OSHA activity data, explosive site planning data, document hosting and management, job hazard analysis data, and survey assessment data.

Dated: May 9, 2013.
Aaron Siegel,
Alternate OSD Federal Register, Liaison Officer, Department of Defense.

[FR Doc. 2013-11815 Filed 5-16-13; 8:45 am]

BILLING CODE 5001-06-P